DEPARTMENT OF TRANSPORTATION

Federal Aviation Administration

14 CFR Part 39

[Docket No. FAA-2009-0055; Directorate Identifier 2008-NM-194-AD]

RIN 2120-AA64

Airworthiness Directives; Airbus Model A300 B2-1C, A300 B2-203, A300 B2K-3C, A300 B4-103, A300 B4-203, and A300 B4-2C Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

[T]he FAA has published SFAR 88 (Special Federal Aviation Regulation 88). * * *

Under this regulation, all holders of type certificates for passenger transport aircraft * * * are required to conduct a design review against explosion risks.

One of the consequences of the Airbus design review is the modification of the fuel pump wiring to provide protection against chafing of the fuel pump cables. This condition, if not corrected, could result in short circuits leading to fuel pump failure, arcing, and possible fuel tank explosion.

[A previous AD] was issued to require * * * modification [of the fuel pump against short circuit]. * * * More recently, an additional modification of the electrical wiring of the outer fuel pump and the landing lights on the left (LH) and right (RH) sides has been introduced * * *.

The additional modification will provide additional protection from chafing and will prevent intermittent operation of the fuel pump and landing lights, as well as failure of the power supply. The proposed AD would require actions that are intended to address the unsafe condition described in the MCAI.

DATES: We must receive comments on this proposed AD by March 16, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2009-0055; Directorate Identifier 2008-NM-194-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 17, 2007, we issued AD 2007-18-02, Amendment 39-15182 (72 FR 49175, August 28, 2007). That AD required actions intended to address an unsafe condition on the products listed above.

Since we issued AD 2007-18-02, an Airbus design review has shown that the LH (left-hand) and RH (right-hand) landing light power supplies, which are installed in the same metallic conduits as the fuel pump cables, are subject to chafing. The design review also showed that installing additional mechanical protection will protect against chafing of the landing light cables, provide further protection against chafing of the fuel pump cables, and will prevent intermittent operation of the fuel pump and landing lights, as well as failure of the power supply. The European Aviation Safety Agency (EASA), which is the Technical Agent for the Member States of the European Community, has issued EASA Airworthiness Directive 2008-0188, dated October 10, 2008 (referred to after this as “the MCAI”), to correct an unsafe condition for the specified products. The MCAI states:

[T]he FAA has published SFAR 88 (Special Federal Aviation Regulation 88). Subsequently, the Joint Aviation Authorities (JAA) recommended the application of a similar regulation to the National Aviation Authorities (NAA) of its member countries. Under this regulation, all holders of type certificates for passenger transport aircraft with either a passenger capacity of 30 or more, or a payload capacity of 3,402 kg (7,500 lbs) or more, which have received their certification since 01 January 1958, are required to conduct a design review against explosion.

One of the consequences of the Airbus design review is the modification of the fuel pump wiring to provide protection against chafing of the fuel pump cables. This condition, if not corrected, could result in short circuits leading to fuel pump failure, arcing, and possible fuel tank explosion.

EASA (European Aviation Safety Agency) AD 2007-0066 [which corresponds to FAA AD 2007-18-02] was issued to require this modification in accordance with Airbus SB [service bulletin] A300-24-0103, Revision 01. More recently, an additional modification of the electrical wiring of the outer fuel pump and the landing lights on the left (LH) and right (RH) side has been introduced in Revision 02 of Airbus SB A300-24-0103. For the reason described above, this new AD retains the requirements of EASA AD 2007-0066, which is superseded, and requires additional work.

The additional modification will provide additional protection from chafing and will prevent intermittent operation of the fuel pump and landing lights, as well as failure of the power supply. The additional work is installing mechanical protection (shrink sleeve to cover the whole wire cable length, and additional braided conduit sleeves (Halar)) for the outer fuel pumps and the landing light cables on the LH and RH side. You may obtain further information by examining the MCAI in the AD docket.

Relevant Service Information

Airbus has issued Mandatory Service Bulletin A300-24-0103, Revision 02, dated April 4, 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect 13 products of U.S. registry. We also estimate that it would take about 88 work-hours per product to comply with the basic requirements of this proposed AD. The average labor rate is $80 per work-hour. Required parts would cost about $9,150 per product. Where the service information lists required parts costs that are covered under warranty, we have assumed that there will be no charge for these costs. As we do not control warranty coverage for affected parties, some parties may incur costs higher than estimated here. Based on these figures, we estimate the cost of the proposed AD on U.S. operators to be $210,470, or $16,190 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15182 (72 FR 49175, August 28, 2007) and adding the following new AD:

Airbus: Docket No. FAA-2009-0055; Directorate Identifier 2008-NM-194-AD.

Comments Due Date

(a) We must receive comments by March 16, 2009.

Affected ADs

(b) The proposed AD supersedes AD 2007-18-02, Amendment 39-15182.

Applicability

(c) This AD applies to Airbus Model A300 B2-1C, A300 B2-203, A300 B2K-3C, A300 B4-103, A300 B4-203, and A300 B4-2C, certificated in any category, as identified in Airbus Mandatory Service Bulletin A300-24-0103, Revision 02, dated April 4, 2008.

Subject

(d) Air Transport Association (ATA) of America Code 24: Electrical Power.

Reason

(e) The mandatory continuing airworthiness information (MCAI) states:

[T]he FAA has published SFAR 88 (Special Federal Aviation Regulation 88). Subsequently, the Joint Aviation Authorities (JAA) recommended the application of a similar regulation to the National Aviation Authorities (NAA) of its member countries. Under this regulation, all holders of type certificates for passenger transport aircraft with either a passenger capacity of 30 or more, or a payload capacity of 3,402 kg (7,500 lbs) or more, which have received their certification since 01 January 1958, are required to conduct a design review against explosion.

One of the consequences of the Airbus design review is the modification of the fuel pump wiring to provide protection against chafing of the fuel pump cables. This condition, if not corrected, could result in short circuits leading to fuel pump failure, arcing, and possible fuel tank explosion.

EASA (European Aviation Safety Agency) AD 2007-0066 [which corresponds to FAA AD 2007-18-02] was issued to require this modification in accordance with Airbus SB [service bulletin] A300-24-0103, Revision 01. More recently, an additional modification of the electrical wiring of the outer fuel pump and the landing lights on the left (LH) and right (RH) side has been introduced in Revision 02 of Airbus SB A300-24-0103. For the reason described above, this new AD retains the requirements of EASA AD 2007-0066, which is superseded, and requires additional work.

The additional modification will provide additional protection from chafing and will prevent intermittent operation of the fuel pump and landing lights, as well as failure of the power supply. The additional work is installing mechanical protection (shrink sleeve to cover the whole wire cable length, and additional braided conduit sleeves (Halar)) for the outer fuel pumps and the landing light cables on the LH and RH side.

Restatement of Requirements of AD 2007-18-02

(f) Within 31 months after October 2, 2007 (the effective date of AD 2007-18-02), unless already done, modify the inner and outer fuel pump wiring, route 1P and 2P harnesses in the LH (left-hand) wing and in the RH (right-hand) wing, in accordance with the Accomplishment Instructions of Airbus Service Bulletin A300-24-0103, Revision 01, dated January 11, 2007. Actions done before October 2, 2007 in accordance with Airbus Service Bulletin A300-24-0103, dated March 15, 2006, for airplanes under configuration 1 as defined in Airbus Service Bulletin A300-24-0103, Revision 01, dated January 11, 2007, or Revision 02, dated April 4, 2008, except as provided by paragraph (g) of this AD, are acceptable for compliance with the requirements of this paragraph.

New Requirements of This AD: Actions and Compliance

(g) After the effective date of this AD, Airbus Mandatory Service Bulletin A300-24-0103, Revision 02, dated April 4, 2008, must be used for the actions required by paragraph (f) of this AD.

(h) Unless already done, within 12 months after the effective date of this AD, modify the wiring of the outer fuel pump and the landing light on the LH side route 1P harness and RH side route 2P harness in accordance with the Accomplishment Instructions of Airbus Mandatory Service Bulletin A300-24-0103, Revision 02, dated April 4, 2008.

FAA AD Differences

Note 1: This AD differs from the MCAI and/or service information as follows: No differences.

Other FAA AD Provisions

(i) The following provisions also apply to this AD:

(1) Alternative Methods of Compliance (AMOCs): The Manager, International Branch, ANM-116, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your appropriate principal inspector (PI) in the FAA Flight Standards District Office (FSDO), or lacking a PI, your local FSDO. (2) Alternative methods of compliance, approved previously in accordance with AD 2007-18-02, are approved as alternative methods of compliance with this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(j) Refer to MCAI European Aviation Safety Agency (EASA) Airworthiness Directive 2008-0188, dated October 10, 2008; Airbus Service Bulletin A300-24-0103, Revision 01, dated January 11, 2007; and Airbus Mandatory Service Bulletin A300-24-0103, Revision 02, dated April 4, 2008; for related information.

Issued in Renton, Washington, on January 21, 2009.
Ali Bahrami,
Manager, Transport Airplane Directorate, Aircraft Certification Service.

[FR Doc. E9-3121 Filed 2-12-09; 8:45 am]

BILLING CODE 4910-13-P